DEPARTMENT OF THE INTERIOR

Fish and Wildlife Service

[FWS-R4-ES-2018-N134; FXES11140400000-178-FF04EF2000]

Endangered and Threatened Wildlife and Plants; Availability of Two Habitat Conservation Plans for Sand Skink and Blue-Tailed Mole Skink, Osceola and Polk Counties, FL

AGENCY: Fish and Wildlife Service, Interior.

ACTION: Notice of availability; request for comments and information.

SUMMARY: We, the Fish and Wildlife Service (Service), have received two applications for incidental take permits (ITP) under the Endangered Species Act. Florida Bramingham, Inc. (Permit TE94080C-0) and Palmetto Lake Wales-Hwy 60, LLC (Permit 94085C-0) (applicants) are requesting individual ITPs for take of sand skink and blue-tailed mole skink. We request public comments on these permit applications, each of which includes a habitat conservation plan (HCP), and our preliminary determinations that these HCPs qualify as low effect under the National Environmental Policy Act (NEPA). To make these determinations, we used our environmental action statements and low-effect screening forms, which are also available for review.

DATES: We must receive your written comments on or before March 15, 2019.

ADDRESSES:

Obtaining Documents: You may obtain copies of the documents by any of the following methods. Be sure to specify clearly the ITP applications for which you want documents.

• Telephone: Alfredo Begazo, at 772-469-4234.

• Email: alfredo_begazo@fws.gov.

• U.S. mail: Alfredo Begazo, South Florida Ecological Services Office; Attn: “Florida Bramingham, Inc. Permit-TE 94080C-0” and/or “Palmetto Lake Wales-Hwy 60, LLC Permit-TE94085C-0,” U.S. Fish and Wildlife Service; 1339 20th Street; Vero Beach, FL 32960-3559.

• In-person review: The documents are available for public inspection by appointment during normal business hours at the above address. Please call to make an appointment.

FOR FURTHER INFORMATION CONTACT: Mr. Alfredo Begazo, Fish and Wildlife Biologist, South Florida Ecological Services Office (see ADDRESSES).

SUPPLEMENTARY INFORMATION: We, the Fish and Wildlife Service (Service), have received two applications for incidental take permits (ITPs) under the Endangered Species Act of 1973, as amended (ESA; 16 U.S.C. 1531 et seq.). Florida Bramingham, Inc. is requesting a 30-year ITP, and Palmetto Lake Wales-Hwy 60, LLC is requesting a 5-year ITP for the take of the federally listed sand skink (Neoseps reynoldsi) and threatened blue-tailed mole skink (Eumeces egregious) (skinks). We request public comment on these permit applications, habitat conservation plans (HCPs), and on our preliminary determinations that these HCPs qualify as categorical exclusions under the National Environmental Policy Act (NEPA; 42 U.S.C. 4321 et seq.). To make these determinations, we used our environmental action statement and low-effect screening forms, which are also available for review.

Public Comments

Submitting Comments

If you wish to comment on any of the documents, you may do so via any one of the following methods. Be sure to specify clearly the ITP applications on which you are commenting.

• Email, U.S. mail, or In-person drop-off: See ADDRESSES.

• Fax: Alfredo Begazo, 772-562-4288.

Public Availability of Comments

Before including your address, phone number, email address, or other personal identifying information in your comments, you should be aware that your entire comment—including your personal identifying information—may be made publicly available at any time. While you may ask us in your comment to withhold your personal identifying information from public review, we cannot guarantee that we will be able to do so.

Applicants' Proposed Projects

Each applicant requests a permit under section 10(a)(1)(B) of the Endangered Species Act. If we issue either permit, the applicant anticipates taking sand skink and blue-tailed mole skink incidental to land preparation and construction. The amount of habitat loss for each proposed project is as follows:

• Florida Bramingham, Inc. (TE94080C-0) anticipates destroying 13.1 acres of species feeding, breeding, and sheltering habitat incidental to land preparation and construction in Section 14, Township 25 South, and Range 27 East, in Osceola County, Florida.

• Palmetto Lake Wales-Hwy 60, LLC (TE94085C-0) anticipates destroying 1.13 acres of species feeding, breeding, and sheltering habitat incidental to land preparation and construction in Sections 7 and 8, Township 30 South, and Range 29 East, in Polk County, Florida.

Each applicant proposes to mitigate for impacts to the species by purchasing credits from a Service-approved conservation bank as follows:

• Florida Bramingham, Inc. proposes to purchase the equivalent of 26.2 acres of credits.

• Palmetto Lake Wales-Hwy 60, LLC proposes to purchase the equivalent of 2.26 acres of credits.

Our Preliminary Determination

The Service has made a preliminary determination that each applicant's project, including the minimization and mitigation measures, will individually and cumulatively have a minor or negligible effect on the species covered in its HCP. Therefore, issuance of either of the ITPs would be a “low-effect” action and qualify as a categorical exclusion under the NEPA, as provided by 43 CFR 46.205 and 46.210. A low-effect HCP is one involving: (1) Minor or negligible effects on federally listed, proposed, and candidate species and their habitats; (2) minor or negligible effects on other environmental values or resources; and, (3) impacts that, when considered together with the impacts of other past, present, and reasonably foreseeable similarly situated projects, would not result over time in cumulative effects to environmental values or resources that would be considered significant.

Next Steps

We will evaluate each HCP and the comments we receive to determine whether the ITP application meets the requirements of section 10(a)(1)(B) of the ESA. We will also conduct an intra-Service consultation on each application to evaluate take of the skinks in accordance with section 7 of the ESA. We will use the results of these consultations, in combination with the above findings, in our analysis of whether or not to issue each ITP. If the requirements are met, we will issue ITP number TE94080C-0 to Florida Bramingham, Inc. and TE94085C-0 to Palmetto Lake Wales-Hwy 60, LLC.

Authority

We provide this notice under Section 10 of the ESA (16 U.S.C. 1531 et seq.) and NEPA regulations (40 CFR 1506.6).

Roxanna Hinzman,
Field Supervisor, South Florida Ecological Services Office.

[FR Doc. 2019-02192 Filed 2-12-19; 8:45 am]

BILLING CODE 4333-15-P